DEPARTMENT OF AGRICULTURE

Black Hills National Forest Advisory Board Public Meeting Dates Announced

AGENCY: Forest Service, USDA.

ACTION: Notice of meetings.

SUMMARY: The Black Hills National Forest Advisory Board (NFAB) has announced its meeting dates for 2008. These meetings are open to the public, and public comment is accepted at any time in writing and at the pleasure of the Board chair at each meeting for verbal comments. Persons wishing to speak may be given three minutes to address the Board.

Meeting dates are the third Wednesday of each month unless otherwise indicated:

January 3.

February 20.

March 19.

April 16.

May 21.

June 18.

July (No Meeting).

August 20 (Summer Field Trip—TBA).

September 17.

October 15.

November 19.

December (No Meeting).

January 6, 2009 (Tentative).

ADDRESSES: Meetings will begin at 1 p.m. and end no later than 5 p.m. at the Forest Service Center, 8221 S. Highway 16, Rapid City, SD 57702.

Agendas: The Board will consider a variety of issues related to national forest management. Agendas will be announced in advance in the news media but principally concern implementing phase two of the forest land and resource management plan. The Board will consider such topics as integrated vegetation management (wild and prescribed fire, fuels reduction, controlling insect epidemics, invasive species), travel management (off highway vehicles, the new OHV rule, and related topics), and forest fragmentation, among others.

FOR FURTHER INFORMATION CONTACT: Frank Carroll, Committee Management Officer, Black Hills National Forest, 25041 North Highway 16, Custer, SD 57730, (605) 673-9200.

Dated: December 1, 2007.
Craig Bobzien,
Forest Supervisor.

[FR Doc. 07-5896 Filed 11-30-07; 8:45 am]

BILLING CODE 3410-11-M